DEPARTMENT OF TRANSPORTATION

Federal Aviation Administration

14 CFR Part 39

[Docket No. FAA-2015-2134; Directorate Identifier 2015-CE-012-AD]

RIN 2120-AA64

Airworthiness Directives; B/E Aerospace Protective Breathing Equipment Part Number 119003-11

AGENCY: Federal Aviation Administration (FAA), DOT.

ACTION: Notice of proposed rulemaking (NPRM).

SUMMARY: We propose to adopt a new airworthiness directive (AD) for certain B/E Aerospace protective breathing equipment (PBE) that is installed on airplanes. This proposed AD was prompted by reports of a compromise in the vacuum seal of the pouch that contains the PBE. This proposed AD would require inspecting the PBE to determine if the pouch has the proper vacuum seal. We are proposing this AD to correct the unsafe condition on these products.

DATES: We must receive comments on this proposed AD by July 31, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact B/E Aerospace, Inc., Commercial Aircraft Products Group, 10800 Pflumm Road, Lenexa, Kansas 66215; telephone: (913) 338-9800; fax: (913) 338-8419; Internet: www.beaerospace.com. You may review this referenced service information at the FAA, Small Airplane Directorate, 901 Locust, Kansas City, Missouri 64106. For information on the availability of this material at the FAA, call (816) 329-4148. It is also available on the Internet at http://www.regulations.gov by searching for and locating Docket No. FAA-2015-2134.

Examining the AD Docket

You may examine the AD docket on the Internet at http://www.regulations.gov by searching for and locating Docket No. FAA-2015-2134; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: David Enns, Aerospace Engineer, Wichita Aircraft Certification Office, FAA, 1801 S. Airport Road, Room 100, Wichita, Kansas 67209; phone: (316) 946-4147; fax: (316) 946-4107; email: david.enns@faa.gov.

SUPPLEMENTARY INFORMATION:

Comments Invited

We invite you to send any written relevant data, views, or arguments about this proposal. Send your comments to an address listed under the ADDRESSES section. Include “Docket No. FAA-2015-2134; Directorate Identifier 2015-CE-012-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of B/E Aerospace protective breathing equipment (PBE), part number 119003-11, catching fire when activated by a crew member during taxi aboard an Emirates Airline airplane.

Following the PBE fire event and during the initial investigation, it was determined that a number of pouches containing the PBE that were installed in various airplanes had a compromised vacuum seal. A compromised seal in the pouch of a PBE results in degradation and possible contamination of the chemicals that provide oxygen during use.

The PBE utilizes an igniter candle to provide the user with initial oxygen. This candle uses a chemical reaction that produces high heat and a high flow of oxygen. A compromised vacuum seal can lead to degradation or contamination of the candle materials. This possible contamination of the candle can change the chemical reaction leading to a breach of the filter in the candle assembly allowing hot particles from the igniter candle to enter the oxygen rich environment of the PBE hood. The compromised seal also allows moisture to be drawn into the pouch containing the PBE, which affects the chemical composition of the breathing canister so that it may not meet its performance requirements.

The cause of the compromised vacuum seal of the pouch containing the PBE is unknown at this time. This condition, if not corrected, could result in the PBE not providing the necessary oxygen when needed. Also, the degradation of the chemicals within the igniter candle could increase the likelihood of hot particles to be ejected into the oxygen rich environment and result in fire in the PBE hood.

Related Service Information Under 1 CFR Part 51

We reviewed B/E Aerospace Service Bulletin No. 119003-35-011, Rev. 000, dated February 4, 2015. The B/E Aerospace service bulletin describes procedures for inspecting the PBE to determine if the vacuum seal of the pouch containing the PBE is compromised. This service information is reasonably available because the interested parties have access to it through their normal course of business or by the means identified in the ADDRESSES section of this NPRM.

FAA's Determination

We are proposing this AD because we evaluated all the relevant information and determined the unsafe condition described previously is likely to exist or develop in other products of the same type design.

Proposed AD Requirements

This proposed AD would require accomplishing the actions specified in the service information described previously.

Differences Between This Proposed AD and the Service Information

The service bulletin applies to all PBE with part number 119003-11 and part number 119003-21. We have determined that this proposed AD would apply only to a PBE with part number 119003-11.

Interim Action

We consider this proposed AD interim action. The FAA investigation is ongoing. If final termination action is later identified, we may consider further rulemaking.

Costs of Compliance

We estimate that this proposed AD affects 9,000 products installed on airplanes of U.S. registry.

We estimate the following costs to comply with this proposed AD:

Estimated Costs
Action | Labor cost | Parts cost | Cost per product | Cost on U.S. operators
Inspecting the pouch containing the PBE for proper vacuum seal | .5 work-hour × $85 per hour = $42.50 per inspection cycle | Not applicable | $42.50 per inspection cycle. | $382,500 per inspection cycle.

We estimate the following costs to do any necessary replacements that would be required based on the results of the proposed inspection. We have no way of determining the number of airplanes that might need this replacement:

On-Condition Costs
Action | Labor cost | Parts cost | Cost per product
Replace the PBE that has a compromised vacuum sealed pouch | .5 work-hour × $85 per hour = $42.50 | $1,510 | $1,552.50

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

B/E Aerospace: Docket No. FAA-2015-2134; Directorate Identifier 2015-CE-012-AD.

(a) Comments Due Date

We must receive comments by July 31, 2015.

(b) Affected ADs

None.

(c) Applicability

This AD applies to B/E Aerospace Protective Breathing Equipment (PBE), part number 119003-11, that is installed on airplanes.

(d) Subject

Joint Aircraft System Component (JASC)/Air Transport Association (ATA) of America Code 35; Oxygen.

(e) Unsafe Condition

This AD was prompted by reports of a compromise in the vacuum seal of the pouch that contains the PBE. We are issuing this AD to correct the unsafe condition on these products.

(f) Compliance

Unless already done, comply with paragraphs (g) through (h) of this AD.

(g) Inspection

(1) Within 3 months after the effective date of this AD, while still in the stowage box, physically inspect the PBE pouch to determine if it has an intact vacuum seal. Repetitively thereafter, inspect every 12 months. Do these inspections following paragraph III.A.1. of the Accomplishment Instructions in B/E Aerospace Service Bulletin No. 119003-35-011. Rev. 000, dated February 4, 2015.

(2) Within 36 months after the first inspection required in paragraph (g)(1) of this AD, remove the PBE pouch from the stowage box and physically inspect the PBE pouch to determine if it has an intact vacuum seal. Repetitively thereafter, inspect every 36 months. Do these inspections following paragraph III.A.2. of the Accomplishment Instructions in B/E Aerospace Service Bulletin No. 119003-35-011, Rev. 000, dated February 4, 2015.

(h) Replacement

If a PBE pouch is found that does not have an intact vacuum seal during any inspection required in paragraphs (g)(1) and (g)(2) of this AD, before further flight, replace the PBE with an FAA-approved PBE contained in a vacuum sealed pouch. After the replacement, continue with the inspections required in paragraphs (g)(1) and (g)(2) of this AD.

(i) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact David Enns, Aerospace Engineer, Wichita ACO, FAA, 1801 S. Airport Road, Room 100, Wichita, Kansas 67209; phone: (316) 946-4147; fax: (316) 946-4107; email: david.enns@faa.gov.

(2) For service information identified in this AD, contact B/E Aerospace, Inc., 10800 Pflumm Road, Commercial Aircraft Products Group, Lenexa, Kansas 66215; telephone: (913) 338-9800; fax: (913) 338-8419; Internet: www.beaerospace.com. You may review this referenced service information at the FAA, Small Airplane Directorate, 901 Locust, Kansas City, Missouri 64106. For information on the availability of this material at the FAA, call (816) 329-4148.

Issued in Kansas City, Missouri, on June 5, 2015.
Earl Lawrence,
Manager, Small Airplane Directorate, Aircraft Certification Service.

[FR Doc. 2015-14286 Filed 6-15-15; 8:45 am]

BILLING CODE 4910-13-P